DEPARTMENT OF STATE

[Public Notice 8054]

The Amendment of the Designation of Al-Qa'ida in the Arabian Peninsula, aka Al-Qa'ida of Jihad Organization in the Arabian Peninsula, aka Tanzim Qa'idat al-Jihad fi Jazirat al-Arab, aka Al-Qa'ida in Yemen, aka Al-Qa'ida in the South Arabian Peninsula, as a Specially Designated Global Terrorist Entity Pursuant to Executive Order 13224

Based upon a review of the Administrative Record assembled in this matter pursuant to Executive Order 13224 and in consultation with the Attorney General and the Secretary of the Treasury, the Secretary of State concludes that there is a sufficient factual basis to find that al-Qa'ida in the Arabian Peninsula, also known under the aliases listed above, uses or has used an additional alias, namely, Ansar al-Shari'a.

Therefore, the Secretary of State hereby amends the 2010 designation of al-Qa'ida in the Arabian Peninsula as a Specially Designated Global Terrorist entity, pursuant to Executive Order 13224, to include the following new alias and other possible transliterations thereof:

Ansar al-Shari'a.

Dated: September 17, 2012.
Hillary Rodham Clinton,
Secretary of State.

[FR Doc. 2012-24702 Filed 10-4-12; 8:45 am]

BILLING CODE 4710-10-P